FEDERAL COMMUNICATIONS COMMISSION

[CC Docket No. 92-237; DA 05-2276]

Next Meeting of the North American Numbering Council

AGENCY: Federal Communications Commission.

ACTION: Notice.

SUMMARY: On August 22, 2005, the Commission released a public notice announcing the September 20, 2005 meeting and agenda of the North American Numbering Council (NANC). The intended effect of this action is to make the public aware of the NANC's next meeting and agenda.

DATES: Tuesday, September 20, 2005, 9:30 a.m.

ADDRESSES: Telecommunications Access Policy Division, Wireline Competition Bureau, Federal Communications Commission, Portals II, 445 Twelfth Street, SW., Suite 5-A420, Washington, DC 20554. Requests to make an oral statement or provide written comments to the NANC should be sent to Deborah Blue.

FOR FURTHER INFORMATION CONTACT: Deborah Blue, Special Assistant to the Designated Federal Officer (DFO) at (202) 418-1466 or Deborah.Blue@fcc.gov. The fax number is: (202) 418-2345. The TTY number is: (202) 418-0484.

SUPPLEMENTARY INFORMATION: Released: August 22, 2005. The North American Numbering Council (NANC) has scheduled a meeting to be held Tuesday, September 20, 2005, from 9:30 a.m. until 5 p.m. The meeting will be held at the Federal Communications Commission, Portals II, 445 Twelfth Street, SW., Room TW-C305, Washington, DC. This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting.

Proposed Agenda—Tuesday, September 20, 2005, 9:30 a.m.: *

1. Announcements and Recent News

2. Approval of Minutes

—Meeting of July 19, 2005

3. Report of the North American Numbering Plan Administrator (NANPA)

4. Report of the National Thousands Block Pooling Administrator (PA)

5. Report of the North American Portability Management (NAPM) LLC

6. Status of the Industry Numbering Committee (INC) activities

7. Report of the North American Numbering Plan Billing and Collection (NANP B&C) Agent

8. Report of the Billing & Collection Working Group (B&C WG)

9. Reports from the Issues Management Groups (IMGs)

—See Agenda Item 12 for pseudo Automatic Numbering Identification (pANI) IMG

—See Agenda Item 13 for NANC Training IMG

10. Report of the Local Number Portability Administration (LNPA) Working Group

11. Report of the Numbering Oversight Working Group (NOWG)

12. Report of the Future of Numbering Working Group (FoN WG)

• Including report of pANI IMG

13. NANC Training IMG Review

14. Special Presentations

15. Update List of the NANC Accomplishments

16. Summary of Action Items

17. Public Comments and Participation (5 minutes per speaker)

18. Other Business

Adjourn no later than 5 p.m.

Next Meeting: Wednesday, November 30, 2005

* The Agenda may be modified at the discretion of the NANC Chairman with the approval of the DFO.

Federal Communications Commission.
Regina M. Brown,
Attorney, Telecommunications Access Policy Division, Wireline Competition Bureau.

[FR Doc. 05-17115 Filed 8-30-05; 8:45 am]

BILLING CODE 6712-01-P